DEPARTMENT OF DEFENSE

Office of the Secretary

[Docket ID: DoD-2023-OS-0054]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Deputy Assistant Secretary of Defense for Military Community and Family Policy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 21, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Military Community and Family Policy, Office of Military Family Readiness, ATTN: Sean O'Hare, Alexandria, VA 22350; sean.p.ohare3.civ@mail.mil or by telephone: (571) 372-0866.

SUPPLEMENTARY INFORMATION:

Title; Associated Form; and OMB Number: DoD Child Development Program (CDP)—Family Information; Department of Defense Child Development Program Request for Care Record (DD Form 2606) & Application for Department of Defense Child Care Fees (DD Form 2652); OMB Control Number 0704-0515.

Needs and Uses: The DoD requires the information in the proposed collection for program planning and management purposes. This includes two collection instruments: DD Form 2606, “Department of Defense Child Development Program Request for Care Record,” which is required for all patrons to apply for childcare and collects general information regarding the sponsor and family, and DD Form 2652 “Application for Department of Defense Child Care Fees,” which is utilized for patrons to apply for DoD childcare subsidies based on total family income.

Affected Public: Individuals or households.

Annual Burden Hours:

DD 2606: 1,042.

DD 2652: 4,167.

Total: 5,209.

Number of Respondents:

DD 2606: 12,500.

DD 2652: 50,000.

Total: 62,500.

Responses per Respondent: 1.

Annual Responses:

DD 2606: 12,500.

DD 2652: 50,000.

Total: 62,500.

Average Burden per Response: 5 minutes.

Frequency: Biennially.

Respondents for the information collection through DD Form 2606 and DD Form 2652 are patrons requesting childcare and patrons enrolled in Child Development Programs (CDPs). The DoD CDP requires the information in the proposed collections for program planning, management purposes and the determination of child care fees.

The DD Form 2606 is used to collect information for the type of care needed and sponsor status which determines eligibility and priority for child development program services. It is also used to assist management in the planning of present and future program requirements. The information from the DD Form 2652 is used to determine total family income to determine child care fees for families enrolled in the DoD CDP.

Dated: June 13, 2023.
Aaron T. Siegel,
Alternate OSD Federal Register Liaison Officer, Department of Defense.

[FR Doc. 2023-13100 Filed 6-20-23; 8:45 am]

BILLING CODE 5001-06-P